DEPARTMENT OF JUSTICE

Antitrust Division

Notice Pursuant to the National Cooperative Research and Production Act of 1993—The Open Group, L.L.C.

Notice is hereby given that, on February 8, 2018, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Annapolis Micro Systems, Inc., Annapolis, MD; Avilution, L.L.C., Madison, AL; Avistar Consulting Ltd., Calgary, CANADA; Behlman Electronics, Inc., Hauppauge, NY; CPLANE Networks, Inc., San Carlos, CA; Dreamsoft, Inc., Del Mar, CA; E.I. duPont de Nemours and Company, Wilmington, DE; Government of Andhra Pradesh, Vijayawada, INDIA; Herrick Technology Laboratories, Inc., Germantown, MD; KEYW Corporation, Hanover, MD; KnowNXT, L.L.C., Dubai, UNITED ARAB EMIRATES; Kontron America, Inc., San Diego, CA; Leidos, Inc., Albuquerque, NM; Micro Focus International Plc., Berkshire, UNITED KINGDOM; New Paradigm, L.L.C., Pittsburgh, PA; SABIC ATC Manufacturing, Riyadh, SAUDI ARABIA; Spectranetix, Inc., Sunnyvale, CA; Statoil ASA, Stavanger, NORWAY; T-E-A-M Consulting, Ltd., Auckland, NEW ZEALAND; U.S. Army RDECOM CERDEC Intelligence and Information Warfare Directorate, Aberdeen Proving Ground, MD; and University of St. Thomas Graduate Programs in Software, St. Paul, MN, have been added as parties to this venture.

Also, 24 Learning Beijing Hua Fang Ji Ye Technology Co., Ltd., Beijing, PEOPLE'S REPUBLIC OF CHINA; ARCHIT v/Lise Gerd Pedersen, Valby, DENMARK; Azeemi Technologies, Riyadh, SAUDI ARABIA; Cirrus Link Solutions, L.L.C., Spring Hill, KS; Combitech AS, Lysaker, NORWAY; CSC, Waltham, MA; Deputy Undersecretary of Defense for Acquisition and Technology (DUSD A&T), Arlington, VA; Equinox IT, Wellington, NEW ZEALAND; Front Metrics Technologies Pvt. Ltd., Pune, INDIA; Institute for Information Industry, Taipei, TAIWAN; Kaman Precision Products, Middletown, CT; Knowledgecom Corporation Sdn. Bhd., Petaling Jaya, MALAYSIA; McLeod Consultancy Pty. Ltd., Canberra, AUSTRALIA; NxGN Pty. Ltd., Johannesburg, SOUTH AFRICA; nxtControl GmbH, Leobersdorf, AUSTRIA; and Origin Energy, Sydney, AUSTRALIA, have withdrawn as parties to this venture.

In addition, Prism Tech has changed its name to Ampro ADLINK Technology, Inc., Woburn, MA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on October 26, 2017. A notice was published in the Federal Register pursuant to Section 6(b) of the Act on November 16, 2017 (82 FR 53525).

Patricia A. Brink,
Director of Civil Enforcement, Antitrust Division.

[FR Doc. 2018-04845 Filed 3-9-18; 8:45 am]

BILLING CODE 4410-11-P